DEPARTMENT OF EDUCATION

Notice of Public Posting Requirement of Grant Information for Higher Education Emergency Relief Fund (HEERF) Grantees

AGENCY: Office of Postsecondary Education, Department of Education.

ACTION: Notice.

SUMMARY: The U.S. Department of Education (Department) publishes a revised Information for Financial Aid Professionals (IFAP) Electronic Announcement (EA), originally posted May 6, 2020, that describes the public reporting requirements for Emergency Financial Aid Grants to Students.

FOR FURTHER INFORMATION CONTACT: Jack Cox, U.S. Department of Education, Office of Postsecondary Education, 400 Maryland Ave. SW, Room 270-60, Washington, DC 20202. Telephone: (202) 251-9672. Email: Jack.Cox@ed.gov.

If you use a telecommunications device for the deaf (TDD) or a text telephone (TTY), call the Federal Relay Service, toll free, at 1-800-877-8339.

SUPPLEMENTARY INFORMATION: The Department publishes a revised EA, originally dated May 6, 2020, that describes the public reporting requirements for Emergency Financial Aid Grants to Students. This revised EA, in conjunction with approved information collection under OMB control number 1801-0005, requires grantees receiving awards under Section 18004(a)(1) of the Coronavirus Aid, Relief, and Economic Security Act (CARES Act), Public Law 116-136, 134 Stat. 281 (March 27, 2020), to publicly post certain grant information on the institution's primary website as part of the reporting requirements under Section 18004(e) of the CARES Act. This revised EA maintains the same seven reporting elements, but it adds a clarifying footnote for reporting item four and decreases the frequency of reporting after the initial 30-day period from every 45 days thereafter to every calendar quarter. The revised EA is in the Appendix of this notice.

Accessible Format: Individuals with disabilities can obtain this document in an accessible format (e.g., braille, large print, audiotape, or compact disc) on request to the person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: Section 18004(e) of the CARES Act.

Robert L. King,
Assistant Secretary for the Office of Postsecondary Education.

Appendix—Revised May 06, 2020 IFAP Electronic Announcement

Originally Posted: May 06, 2020

Author: Office of Postsecondary Education

Subject: Higher Education Emergency Relief Fund Reporting—Emergency Financial Aid Grants to Students

Section 18004(e) of the Coronavirus Aid, Relief, and Economic Security Act (“CARES Act” or the “Act”), Public Law 116-136, 134 Stat. 281 (March 27, 2020), directs institutions receiving funds under Section 18004 of the Act to submit (in a time and manner required by the Secretary) a report to the Secretary describing the use of funds distributed from the Higher Education Emergency Relief Fund (“HEERF”). Section 18004(c) of the CARES Act requires institutions to use no less than 50 percent of the funds received from Section 18004(a)(1) of the Act to provide Emergency Financial Aid Grants to Students for expenses related to the disruption of campus operations due to coronavirus (including eligible expenses under a student's cost of attendance such as food, housing, course materials, technology, health care, and child care).

On April 9, 2020, the Department of Education (“Department”) published documents related to the Emergency Financial Aid Grants, including a letter from Secretary Betsy DeVos, a form Certification and Agreement for institutions to sign and return to access the funds, and a list of institutional allocations under Section 18004(a)(1)of the CARES Act. The Certification and Agreement directs each institution applying for HEERF funds to comply with Section 18004(e) of the CARES Act and submit an initial report to the Secretary thirty (30) days from the date of the institution's Certification and Agreement to the Department. Each HEERF participating institution must post the information listed below on the institution's primary website, as an initial report under Section 18004(e) of the CARES Act. This report is associated with approved information collection under OMB control number 1801-0005.

The Department encourages institutions to report as soon as possible, but no later than 30 days after the publication of this notice or 30 days after the date the Department obligated funds to the institution for Emergency Financial Aid Grants to Students, whichever comes later.

The following information must appear in a format and location that is easily accessible to the public. This information must also be updated no later than 10 days after the end of each calendar quarter (September 30, and December 31, March 31, June 30) thereafter, unless the Secretary specifies an alternative method of reporting:

(1) An acknowledgement that the institution signed and returned to the Department the Certification and Agreement and the assurance that the institution has used, or intends to use, no less than 50 percent of the funds received under Section 18004(a)(1) of the CARES Act to provide Emergency Financial Aid Grants to Students.

(2) The total amount of funds that the institution will receive or has received from the Department pursuant to the institution's Certification and Agreement for Emergency Financial Aid Grants to Students.

(3) The total amount of Emergency Financial Aid Grants distributed to students under Section 18004(a)(1) of the CARES Act as of the date of submission (i.e., as of the initial report and every calendar quarter thereafter).

(4) The estimated total number of students at the institution eligible to participate in programs under Section 484 in Title IV of the Higher Education Act of 1965 and thus eligible to receive Emergency Financial Aid Grants to Students under Section 18004(a)(1) of the CARES Act.¹

¹ For the purposes of this report, institutions may determine the number of eligible students based on the number of students for whom the institution has received an Institutional Student Information Record (ISIR) plus the number of students who completed an alternative application form developed by the institution for this purpose. The institution may then apply this number to its own methodological framework for disbursal of funds to produce a final total of eligible students at the institution. The institution is not asked to make assumptions about the potential eligibility of students for whom the institution has not received an ISIR or an alternative application.

(5) The total number of students who have received an Emergency Financial Aid Grant to students under Section 18004(a)(1) of the CARES Act.

(6) The method(s) used by the institution to determine which students receive Emergency Financial Aid Grants and how much they would receive under Section 18004(a)(1) of the CARES Act.

(7) Any instructions, directions, or guidance provided by the institution to students concerning the Emergency Financial Aid Grants.

* Note: For the initial report and each report thereafter, institutions should use data suppression and other methodologies to protect the personally identifiable information from student education records consistent with the Family Educational Rights and Privacy Act (20 U.S.C. 1232g; 34 CFR part 99). This means that if the total number of eligible students or the total number of students who received Emergency Financial Aid Grants is less than 10, but not 0, then the institution must display the total number of students eligible and/or the total number of students who received Emergency Financial Aid Grants as less than 10 (“< 10”) on the publicly available websites controlled by the institution.

Institutions that accurately report the information listed above will meet the initial reporting requirements under Section 18004(e) of the CARES Act. Institutions that the Department determines have not met the reporting requirement as described in this notice may, consistent with the Department's authority to monitor grantee compliance, be subject to appropriate enforcement actions, up to and including being determined to be ineligible for certain other CARES Act program funding. For other subsequent reports for this program and other related HEERF programs, the Department will notify participating institutions of the Department's preferred reporting method. The Department may choose to collect additional information from institutions in accordance with the reporting requirement in Section 18004(e) of the CARES Act and the Certification and Agreement.

For more information on the HEERF, please visit the Department's CARES Act: Higher Education Emergency Relief Fund page at: http://www2.ed.gov/about/offices/list/ope/caresact.html.

Contact Information

If you have questions about the information in this announcement, contact HEERF@ed.gov.

Paperwork Burden Statement

According to the Paperwork Reduction Act of 1995 (PRA), no persons are required to respond to a collection of information unless such collection displays a valid OMB control number. The valid OMB control number for this information collection is 1801-0005. Public reporting burden for this collection of information is estimated to average 30 minutes per response, including time for reviewing instructions, searching existing data sources, gathering and maintaining the data needed, and completing and reviewing the collection of information. Under the PRA, participants are required to respond to this collection to obtain or retain benefit. If you have any comments concerning the accuracy of the time estimate or suggestions for improving this individual collection, or if you have comments or concerns regarding the status of your individual form, application, or survey, please contact: Jack Cox, U.S. Department of Education, 400 Maryland Avenue SW, Washington, DC 20202.

[FR Doc. 2020-19041 Filed 8-28-20; 8:45 am]

BILLING CODE 4000-01-P